DEPARTMENT OF ENERGY

Notice of Public Meeting on Understanding the Environmental, Health, and Local Impacts of Ethane Processing and Distribution

AGENCY: Office of Fossil Energy and Carbon Management, U.S. Department of Energy.

ACTION: Notice of virtual public meeting.

SUMMARY: The Department of Energy (DOE), Office of Fossil Energy and Carbon Management (FECM) will host a public meeting to discuss the impacts petrochemical manufacturing, pipelines, and supporting infrastructure have on environmental and health conditions in local communities and on global greenhouse gas emission targets.

DATES: The public meeting will be held on Tuesday, August 24, 2021 from 11:30 a.m. to 1:30 p.m. EST.

Location: The public meeting will be held virtually via Webex on August 24, 2021, 11:30 a.m.-1:30 p.m. EST. Those who register will be provided with the meeting link and other details.

FOR FURTHER INFORMATION CONTACT: Kevin Easley, Industry Analyst, U.S. Department of Energy, Office of Fossil Energy and Carbon Management, by email at kevin.easley@hq.doe.gov; or by telephone at (240) 780-1453.

SUPPLEMENTARY INFORMATION: The purpose of this meeting is to obtain data, information, and perspectives from individual stakeholders on the following topics: (1) Local environmental, health, and community impacts associated with petrochemical manufacturing, particularly from ethane crackers and pipelines; (2) health and safety risks to local communities from accidents and system failures associated with such facilities and infrastructure; (3) greenhouse gas emissions from such facilities and infrastructure; and (4) opportunities to reduce environmental and health impacts of such facilities locally and along the value chain, up to and including product exports. The public meeting discussion will inform the DOE FECM study assessing the long-term trends related to the domestic production and consumption of ethane, the export of ethane, and the opportunities for and economic benefit of investments for further domestic use, as encouraged by Congress pursuant to the Consolidated Appropriations Act, 2021, Public Law 116-260, and explanatory statement, 166 Cong. Rec. H7879, H8363 (Dec. 21, 2020). In holding this meeting, DOE is seeking individual opinions and perspectives and is not seeking to obtain or utilize consensus advice and/or recommendations from any groups or entities.

The meeting is open to the public and participation is via Webex. Please direct all media inquiries to Marc Willis, Director of Communications, Office of Fossil Energy and Carbon Management, at FECommunications@hq.doe.gov. Those planning to join via Webex are requested to register in advance by email to Colleen Newman (colleen.newman@hq.doe.gov) and provide their name, title, organization, and email address prior to the meeting. Participants are responsible for ensuring their systems are compatible with the Webex software.

Signing Authority

This document of the Department of Energy was signed on August 3, 2021, by Jennifer Wilcox, Ph.D., Acting Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 3, 2021.
Treena V. Garrett,
Federal Register Liaison Officer, U.S. Department of Energy.

[FR Doc. 2021-16880 Filed 8-6-21; 8:45 am]

BILLING CODE 6450-01-P